DEPARTMENT OF EDUCATION

Applications for New Awards; Gaining Early Awareness and Readiness for Undergraduate Programs (State Grants)

AGENCY: Office of Postsecondary Education, Department of Education.

ACTION: Notice.

Overview Information:

Gaining Early Awareness and Readiness for Undergraduate Programs (GEAR UP)

Notice inviting applications for new awards for fiscal year (FY) 2014.

Catalog of Federal Domestic Assistance (CFDA) Number: 84.334S.

DATES:

Applications Available: June 4, 2014.

Deadline for Transmittal of Applications: July 7, 2014.

Deadline for Intergovernmental Review: September 2, 2014.

Full Text of Announcement

I. Funding Opportunity Description

Purpose of Program: The GEAR UP Program is a discretionary grant program that provides funding for academic and related support services to eligible low-income students, including students with disabilities, to help them to obtain a secondary school diploma and to prepare for and succeed in postsecondary education. Services must include providing financial aid information, encouraging enrollment in challenging coursework in order to reduce the need for remediation at the postsecondary level, and implementing activities to improve the number of students who obtain a high school diploma and complete applications for and enroll in a program of postsecondary education. GEAR UP funds may also be used to provide a number of additional support services such as mentoring, tutoring, academic and career counseling, and exposure to college campuses.

Priorities: This notice contains three competitive preference priorities and one invitational priority. Competitive Preference Priority 1 is from section 404A(b)(3) of the Higher Education Act of 1965, as amended (HEA) (20 U.S.C. 1070a-21), and the GEAR UP Program regulations in 34 CFR 694.19. Competitive Preference Priorities 2 and 3 are from the notice of final supplemental priorities and definitions for discretionary grant programs, published in the Federal Register on December 15, 2010 (75 FR 78486) and corrected on May 12, 2011 (76 FR 27637) (Supplemental Priorities).

Competitive Preference Priorities: For FY 2014 and any subsequent year in which we make awards from the list of unfunded applicants from this competition, these priorities are competitive preference priorities. Under 34 CFR 75.105(c)(2)(i), we award up to an additional 10 points to an application, depending on how well the application meets these priorities.

Competitive Preference Priority 1—Successful Completion of Prior GEAR UP Projects (up to 2 additional points):

We give priority to an eligible applicant for a State GEAR UP grant that has: (a) Carried out a successful State GEAR UP grant prior to August 14, 2008, determined on the basis of data (including outcomes data) submitted by the applicant as part of its annual and final performance reports and the applicant's history of compliance with applicable statutory and regulatory requirements; and (b) a prior demonstrated commitment to early intervention leading to college access through collaboration and replication of successful strategies.

Competitive Preference Priority 2—Increasing Postsecondary Success (up to 5 additional points):

Background:

The Department is using Competitive Preference Priority 2 to focus on increasing readiness for success once students reach the postsecondary level. Postsecondary completion rates among students from low-income schools are unacceptably low. The Department believes that GEAR UP projects can play a strong role in improving postsecondary outcomes of their participants by placing a greater emphasis in two areas: (1) College fit, and (2) college readiness at the postsecondary level. The Department is interested in receiving applications with strong plans designed to address one or both of these focus areas.

College Fit:

The concept of college fit combines traditional approaches to college advising such as assistance with test preparation, research, admissions applications, and financial aid applications, with strategies to improve college selection so that students are more aware of and likely to seriously consider or choose institutions that are a good “fit” with their level qualifications, academic and career interests, and financial, personal, and social needs. College fit builds on the body of research on “undermatching,” which demonstrates that students are more likely to complete college when they attend the most academically demanding institution that will admit them. Research has also found that academically prepared low-income students may not be fully aware of the colleges accessible to them and may not be evaluating a full range of college choice factors that could influence the decision about whether to apply to and enroll in the most selective colleges for which they are qualified.¹ Research indicates that high-achieving low-income students have greater success at more appropriately matched institutions.² More narrowly, research on very high-achieving, low-income students has demonstrated that these students will apply to highly selective institutions if it is communicated that they could be admitted to selective institutions and if they understand that financial aid is available.³ Understanding that GEAR UP projects serve students with widely varying levels of academic achievement, and college selection is based on numerous factors, we are interested in receiving applications for GEAR UP funds that propose strategies around improving college guidance opportunities and successful fit for a broad range of low-income students, not just the highest performers. In this regard, we believe that GEAR UP grantees can improve college fit by designing new ways to reach students with information about college options and improving counseling on college selection, such as

¹ Jonathan Smith, Matea Pender, Jessica Howell, “The Full Extent of Student-College Academic Undermatch,” College Board Advocacy and Policy Center, January 2012, www.aefpweb.org/sites/default/files/webform/Extent%20of%20Undermatch.pdf.

² William G. Bowen, Matthew M. Chingos & Michael S. McPherson, Crossing the Finish Line: Completing College at America's Public Universities, Princeton University Press, 2011.

³ Caroline Hoxby & Sarah Turner, “Expanding College Opportunities for High-Achieving, Low Income Students,” Stanford Institute for Economic Policy Research, March 2013.

• Exposing students to a wider array of college options including those that match with their academic qualifications;

• Using a variety of ways to communicate semi-customized information to students about the range of colleges for which they may be qualified, the availability and scale of financial aid, and the relationship of long term considerations (such as graduation rate and post-graduate opportunities) to college choice.⁴

⁴ Caroline Hoxby & Sarah Turner, “Expanding College Opportunities for High-Achieving, Low Income Students,” Stanford Institute for Economic Policy Research, March 2013, http://siepr.stanford.edu/?q=/system/files/shared/pubs/papers/12-014paper.pdf.

• Using innovative methods to reach students, such as through text messaging, with information about college options and completing the application process, and using innovative resources and tools, including those available online, to assist students in researching college options and available financial aid; ⁵ and,

⁵ Benjamin L. Castleman and Lindsay C. Page, “Summer Nudging: Can Personalized Text Messages and Peer Mentor Outreach Increase College Going Among Low-Income High School Graduates?,” Center on Education Policy and Workforce Competitiveness, updated October 2013, http://curry.virginia.edu/uploads/resourceLibrary/9_Castleman_SummerTextMessages.pdf.

• Connecting students to “near peer” advisers to provide counseling to students about college choices.⁶ Near peer advisers offer students unique opportunities for sharing college information, are easier for students to approach than adult advisers, and typically develop relationships that are longer lasting than those established with adults.

⁶ See MDRC, “Make Me a Match,” April 2012, (http://www.mdrc.org/sites/default/files/policybrief_24.pdf).

Ensuring College Readiness by Preventing Remediation:

GEAR UP grantees can improve college readiness by identifying at an early age students likely to be referred to remediation at the postsecondary level and by engaging in strategies to address their needs at the secondary level to make taking such courses in college unnecessary. Each year, rather than being able to enroll in entry level general education courses in subject areas such as reading or math that are required as a part of almost any postsecondary program of study, millions of beginning college students are referred to noncredit-bearing “developmental” or “remedial” courses based on their performance on a placement test or academic reference. Remedial or developmental courses are designed to bring academically underprepared students to expected competency levels for college-level work. Remediation needs are common at all types of colleges. The share of first year undergraduate students at four-year institutions who reported taking a remedial course in 2012 is approximately 29.5 percent at public, 19.6 percent at private nonprofit, and 23.1 percent at for-profit institutions. At two-year institutions, 40.3 percent of first year undergraduate students at public and 17.3 percent at for-profit institutions reported taking a remedial course in 2012.⁷ While participation rates vary widely across States and institution types, African American and Hispanic students are referred to remedial courses at higher rates. Further, low-income students are more likely to be referred to remedial courses in comparison to the overall percentage of students requiring remediation.⁸

⁷ “National Postsecondary Student Aid Study 2011-12,” National Center for Education Statistics, 2012. (http://nces.ed.gov/datalab/tableslibrary/viewtable.aspx?tableid=9420).

⁸ Complete College America. 2012. Remediation: Higher Education's Bridge to Nowhere (www.completecollege.org/docs/CCA-Remediation-final.pdf).

Remedial education is one of the leading barriers to postsecondary persistence and completion.⁹ While in remediation, students spend time and money, accumulate debt, suffer the opportunity cost of lost earnings, and in some cases, deplete all or a significant portion of their eligibility for financial aid. Further, available evidence suggests that participation in remedial education, especially longer sequences of remedial courses, does not improve outcomes.¹⁰

⁹ MDRC, Unlocking the Gate: What We Know About Improving Developmental Education, June 2011 (http://www.mdrc.org/sites/default/files/full_595.pdf).

¹⁰ Attewell, P. A., Lavin, D. E., Domina, T., & Levey, T. 2006. New Evidence on College Remediation. The Journal of Higher Education. (www.jstor.org/stable/3838791 (even after controlling for high school preparation and family background, taking developmental courses reduced the chances of graduation at four-year colleges and universities by 6 to 7 percent). Thomas Bailey, Dong Wook Jeong, Sung-Woo Cho. Referral, Enrollment, and Completion in Developmental Education Sequences in Community Colleges. Community College Research Center, Working Paper No. 15. November 2009 (http://ccrc.tc.columbia.edu/media/k2/attachments/referral-enrollment-completion-developmental.pdf).

Because of its focus on low-income middle school and high school students, GEAR UP may be uniquely situated for early identification of students at risk of needing remediation. GEAR UP programs may also engage in coordinated and targeted interventions that provide academic and counseling services to at-risk students while still in high school to reduce the need for remediation before reaching college, through promising practices such as—

• Using results from State achievement tests from early grades to identify students likely to need remediation should they enroll in college; ¹¹

¹¹ It is important to note that in some cases, depending on the identity of the grantee and structure of any partnership, access to student records such as test scores may be limited by the Family Educational Rights and Privacy Act (20 U.S.C. 1232g; 34 CFR Part 99).

• Conducting early assessments for GEAR UP participants while they are in high school to identify academic weaknesses that may be predictive of future remediation needs and targeting supports such as tutoring and counseling to help ensure these students graduate from high school academically prepared for college;

• Offering a “bridge program” during the summer before college to help students better prepare for institutional course placement exams and the academic transition into college in the fall; or,

• In the project's 7th year (for applicants seeking a 7th year of funding), in which students would be in their first year of postsecondary study, focusing support services on students enrolled in remediation courses, such as by providing enhanced academic and career advising and targeted tutoring services.

Additionally, GEAR UP grantees can support coordination with State systems by building upon and complementing early remediation intervention strategies that are implemented by schools and local educational agencies in response to their status under State accountability systems.

Priority:

Projects that are designed to address one or more of the following priority areas: (a) Increasing the number and proportion of high-need students (as defined in this notice) who are academically prepared for and enroll in college or other postsecondary education and training, and (b) Increasing the number and proportion of high-need students who enroll in and complete high-quality programs of study (as defined in this notice) designed to lead to a postsecondary degree, credential, or certificate.

Competitive Preference Priority 3—Implementing Internationally Benchmarked, College-and Career-Ready Elementary and Secondary Academic Standards (up to 3 additional points):

Background:

In recent years, many States have adopted internationally benchmarked, college- and career-ready academic standards for elementary and secondary school students. GEAR UP grantees can support States in this effort by developing projects designed to assist students in meeting these standards. Applicants could, for example, propose to align their curriculum and instructional materials with college and career ready academic standards or provide academic and social supports to prepare more students to take Advanced Placement or International Baccalaureate courses and enroll in dual enrollment programs where they are available.

Priority:

Projects that are designed to support the implementation of internationally benchmarked, college- and career-ready academic standards held in common by multiple States and to improve instruction and learning, including projects in one or more of the following priority areas:

(a) The development or implementation of curriculum or instructional materials aligned with those standards.

(b) The development or implementation of professional development or preparation programs aligned with those standards.

(c) Strategies that translate the standards into classroom practice.

Note: The GEAR UP statute (20 U.S.C. 1070a-21-1070a-28) and applicable cost principles contained in U.S. Office of Management and Budget Circular A-87 (now redesignated as 2 CFR part 225) do not authorize a State grantee to use GEAR UP program funds to implement activities needed to address this priority unless doing so focuses only on the eligible students in local educational agencies (LEAs) participating in the State's GEAR UP project. However, a State grantee may use Federal funds to provide supplemental help that participating LEAs need to implement any part of the State's or LEA's strategies for meeting this competitive preference priority. Similarly, a State also may use GEAR UP program funds to provide supplemental assistance to LEAs that have received funding under the Investing in Innovation (i3) program to implement strategies and activities that align with State strategies for preparing eligible GEAR UP students to attend and succeed in postsecondary education. These strategies may include the development of graduation and career plans.

Invitational Priority—Development of Non-Cognitive Skills: For FY 2014 and any subsequent year in which we make awards from the list of unfunded applicants from this competition, this priority is an invitational priority. Under 34 CFR 75.105(c)(1) we do not give an application that meets this invitational priority a competitive or absolute preference over other applications.

Background:

An emerging body of research suggests that non-cognitive skills and behaviors play an important role in students' academic, career, and life outcomes.¹² The development of these skills is especially critical during the middle school years as students face new academic challenges, social comparisons, and stereotypes regarding their potential for success. How students negotiate these changes has major implications for their academic futures.

¹² The University of Chicago Consortium of Chicago School Research (June 2012). Teaching Adolescents to Become Learners: The Role of Noncognitive Factors in Shaping School Performance. See http://raikesfoundation.org/Documents/Teaching%20Adolescents%20to%20Become%20Learners%20(CCSR%20Literature%20Review%20June%202012).pdf.

For example, interventions focused on academic mindset (e.g., a sense of belonging in the academic community, believing academic achievement improves with effort, and that challenges are inevitable for success) have been shown to have a measurable impact on grades and course persistence, high school graduation, and college enrollment among low-income and minority students. Strategies focused on strengthening perseverance (e.g., tenacity and self-discipline) and social and emotional skills (e.g., cooperation, empathy, adaptability, and executive functions) have also demonstrated positive outcomes.

For example, middle school students who participated in a series of “Possible Selves” workshops in which they imagined themselves as adults and the positive and negative factors that could help or hinder their goals had higher test scores and GPAs two years after the program than those who did not receive the intervention.¹³ Likewise, students from an inner city school in New York who participated in an eight-week mentorship program that taught them how intelligence is malleable and that the brain can grow like a muscle exhibited increased motivation and improved math grades compared to the control group.¹⁴

¹³ Oyserman, D., Bybee, D., & Terry, K. (2006). Possible selves and academic outcomes: How and when possible selves impel action. Journal of Personality and Social Psychology, 91, 188-204.

¹⁴ Blackwell, L.S., Trzesniewski, K.H. and Dweck, C.S. (2007), Implicit Theories of Intelligence Predict Achievement Across an Adolescent Transition: A Longitudinal Study and an Intervention. Child Development, 78: 246-263.

With this invitational priority, the Department intends to encourage applicants to incorporate strategies and interventions to strengthen traditionally underserved students' non-cognitive skills, so that they are able to pursue a successful path to high school graduation and college success.

Priority:

Development of Non-Cognitive Skills: Projects that include strategies to improve students' non-cognitive skills and behaviors, including academic mindset, perseverance, motivation, and mastery of social and emotional skills that improve student success.

Definitions: These definitions are from the Supplemental Priorities and they apply to Competitive Preference Priorities 2 in this notice.

High-need children and high-need students means children and students at risk of educational failure, such as children and students who are living in poverty, who are English learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities.

Programs of study means career and technical education programs of study, which may be offered as an option to students (and their parents as appropriate) when planning for and completing future coursework, for career and technical content areas, that—(a) Incorporate secondary education and postsecondary education elements; (b) Include coherent and rigorous content aligned with challenging academic standards and relevant career and technical content in a coordinated, non-duplicative progression of courses that align secondary education with postsecondary education to adequately prepare students to succeed in postsecondary education; (c) May include the opportunity for secondary education students to participate in dual or concurrent enrollment programs or other ways to acquire postsecondary education credits; and (d) Lead to an industry-recognized credential or certificate at the postsecondary level, or an associate or baccalaureate degree.

Program Authority: 20 U.S.C. 1070a-21-1070a-28.

Applicable Regulations: (a) The Education Department General Administrative Regulations (EDGAR) in 34 CFR parts 74, 75, 77, 79, 80, 81, 82, 84, 86, 97, 98, and 99. (b) The Education Department suspension and debarment regulations in 2 CFR part 3485. (c) The regulations for this program in 34 CFR part 694. (d) The notice of final supplemental priorities and definitions for discretionary grant programs, published in the Federal Register on December 15, 2010 (75 FR 78486) and corrected on May 12, 2011 (76 FR 27637).

Note: The regulations in 34 CFR part 79 apply to all applicants except federally recognized Indian tribes.

Note: The regulations in 34 CFR part 86 apply to institutions of higher education (IHEs) only.

II. Award Information

Type of Award: Discretionary grants.

Estimated Available Funds: $37,762,760.

Contingent upon the availability of funds and the quality of applications, we may make additional awards in FY 2015 from the list of unfunded applicants from this competition.

Estimated Range of Awards: $2,500,000-$3,500,000.

Estimated Average Size of Awards: $3,000,000.

Maximum Award: We will not fund any application for a State grant above the maximum award of $3,500,000 for a single budget period of 12 months. Additionally, no funding will be awarded for increases in budget after the first 12-month budget period. The Assistant Secretary for Postsecondary Education may change the maximum amounts through a notice published in the Federal Register.

Estimated Number of Awards: 12.

Note: The Department is not bound by any estimates in this notice.

Project Period: Up to 84 months.

III. Eligibility Information

1. Eligible Applicants: States.

2.a. Cost Sharing or Matching: Section 404C(b)(1) of the HEA requires grantees under this program to provide from State, local, institutional, or private funds, not less than 50 percent of the cost of the program (or $1 of non-Federal funds for $1 of Federal funds awarded), which may be provided in cash or in-kind. In-kind contributions may include equipment and supplies, cash contributions from non-Federal sources, discounted program services and facility usage. The provision also provides that the match may be accrued over the full duration of the grant award period, except that the grantee must make substantial progress towards meeting the matching requirement in each year of the grant award period.

b. Supplement-Not-Supplant: This program involves supplement-not-supplant funding requirements. Under section 404B(e) of the HEA, grant funds awarded under this program must be used to supplement, and not supplant, other Federal, State, and local funds that would otherwise be expended to carry out activities assisted under this program (20 U.S.C. 1070a-22).

3. Other: Under Section 404E(b)(1) of the HEA for State grants, a State must use not less than 25 percent and not more than 50 percent of the grant funds for activities targeted at the LEA level as described in section 404D (excluding the reservation of funds for postsecondary scholarships provided for in section 404D(a)(4) and with the remainder of grant funds spent on postsecondary scholarships to eligible GEAR UP students as described in section 404E). However, section 404E(b)(2), of the HEA permits the Secretary to allow a State to use more than 50 percent of grant funds received under this program for activities targeted at the LEA level if the State demonstrates in its grant application that it has another means of providing the students with the financial assistance described in section 404E.

IV. Application and Submission Information

1. Address to Request Application Package: You can obtain an application package via the Internet by downloading the package from the program Web site at: http://www2.ed.gov/programs/gearup/index.html.

You also can request a copy of the application package from the following: Nofertary Fofana, Gaining Early Awareness and Readiness for Undergraduate Programs, U.S. Department of Education, 1990 K Street NW., Room 7095, Washington, DC 20006-8524. Telephone: (202) 502-7533 or by email: nofertary.fofana@ed.gov.

If you use a telecommunications device for the deaf (TDD) or a text telephone (TTY), call, toll free: 1-877-576-7734.

Individuals with disabilities can obtain a copy of the application package in an accessible format (e.g., braille, large print, audiotape, or compact disc) by contacting the program contact person listed in this section.

2. Content and Form of Application Submission: Requirements concerning the content of an application, together with the forms you must submit, are in the application package for this program.

Page Limit: The application narrative is where you, the applicant, address the selection criteria that reviewers use to assess your application. There is a limit for the application narrative of no more than 40 pages using the following standards:

• A “page” is 8.5″ x 11″ , on one side only, with 1″ margins at the top, bottom, and both sides.

Note: For purposes of determining compliance with the 40 page limit, each page on which there are words will be counted as one full page.

• Double space (no more than three lines per vertical inch) all text in the application narrative, except titles, headings, footnotes, endnotes, quotations, references, and captions. Charts, tables, figures, and graphs in the application may be single spaced.

• Use a font that is either 12-point or larger; or, no smaller than 10 pitch (characters per inch). However, you may use a 10 point font in charts, tables, figures, graphs, footnotes, and endnotes.

• Use one of the following fonts: Times New Roman, Courier, Courier New, or Arial.

The page limits do not apply to the cover sheet; the budget section, including the budget narrative and summary form; the assurances and certifications; or the one-page abstract. If you include any attachments or appendices not specifically requested and required for the application, these items will be counted as part of the narrative for the purposes of the page limit.

3. Submission Dates and Times:

Applications Available: June 4, 2014.

Deadline for Transmittal of Applications: July 7, 2014.

Applications for grants under this program must be submitted electronically using the Grants.gov Apply site (Grants.gov). For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 2, 2014.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications.

Applications for grants under the GEAR UP State Grant Competition, CFDA number 84.334S, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the GEAR UP State Grant competition at www.Grants.gov. You must search for the downloadable application package for this competition by the CFDA number. Do not include the CFDA number's alpha suffix in your search (e.g., search for 84.334, not 84.334A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and,

• No later than two weeks before the application deadline date (14 calendar days; or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Nofertary Fofana, U.S. Department of Education, 1990 K Street NW., Room 7095, Washington, DC 20006-8524. FAX: (202) 219-7074.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.334S) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.334S) 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 of EDGAR and are listed in the application package. As described in more detail in the application package, among other criteria, the Department will be assessing applications on the extent to which their proposed projects are supported by strong theory (34 CFR 75.210(c)(2)(xxix)) and the extent to which their proposed evaluation designs are likely to document evidence of promise (34 CFR 75.210(h)(2)(x)).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The objectives of the GEAR UP Program are—(1) to increase the academic performance and preparation for postsecondary education of participating students; (2) to increase the rate of high school graduation and participation in postsecondary education of participating students; and (3) to increase educational expectations for participating students and increase student and family knowledge of postsecondary education options, preparation, and financing.

The effectiveness of this program depends on the rate at which program participants complete high school and enroll in and complete a postsecondary education. Under the Government Performance and Results Act of 1993 (GPRA), we developed the following performance measures to track progress toward achieving the program's goals:

1. The percentage of GEAR UP students who pass Pre-algebra by the end of 8th grade.

2. The percentage of GEAR UP students who pass Algebra 1 by the end of 9th grade.

3. The percentage of GEAR UP students who take two years of mathematics beyond Algebra 1 by the 12th grade.

4. The percentage of GEAR UP students who graduate from high school.

Note: For each GEAR UP project, the high school graduation rate is defined in the State's approved accountability plan under Part A of Title I of the Elementary and Secondary Education Act of 1965, as amended (ESEA).

5. The percentage of GEAR UP students and former GEAR UP students who are enrolled in college.

6. The percentage of GEAR UP students who place into college-level Math and English without need for remediation.

7. The percentage of current GEAR UP students and former GEAR UP students enrolled in college who are on track to graduate college.

8. The percentage of GEAR UP students who complete the Free Application for Federal Student Aid.

9. The percentage of GEAR UP students who are on track for graduation at the end of each grade.

10. The percentage of GEAR UP students who are on track to apply for college as measured by completion of the SAT or ACT by the end of 11th grade.

11. The percentage of parents of GEAR UP students who actively engage in activities associated with assisting students in their academic preparation for college.

In addition, to assess the efficiency of the program, we track the average cost in Federal funds, of achieving a successful outcome, where success is defined as enrollment in postsecondary education of GEAR UP students immediately after high school graduation. These performance measures constitute GEAR UP's indicators of the success of the program. Grant recipients must collect and report data on steps they have taken toward achieving these goals. Accordingly, we request that applicants include these performance measures in conceptualizing the design, implementation, and evaluation of their proposed projects.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Nofertary Fofana, Gaining Early Awareness and Readiness for Undergraduate Programs, U.S. Department of Education, 1990 K Street NW., Room 7095, Washington, DC 20006-8524. Telephone: (202) 502-7533 or by email: nofertary.fofana@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 30, 2014.
Lynn B. Mahaffie,
Senior Director, Policy Coordination, Development, and Accreditation Service, delegated the authority to perform the functions and duties of the Assistant Secretary for Postsecondary Education.

[FR Doc. 2014-12984 Filed 6-3-14; 8:45 am]

BILLING CODE 4000-01-P